DEPARTMENT OF THE INTERIOR

Bureau of Indian Affairs

Draft Environmental Impact Statement for the Cowlitz Indian Tribe's Proposed 151.87 Acre Fee-to-Trust Transfer, Reservation Proclamation and Casino-Resort Project, Clark County, Washington

AGENCY: Bureau of Indian Affairs, Interior.

ACTION: Notice.

SUMMARY: This notice advises the public that the Bureau of Indian Affairs (BIA) as lead agency, with the Cowlitz Indian Tribe (Tribe), National Indian Gaming Commission, Federal Highway Administration, U.S. Environmental Protection Agency (EPA), U.S. Army Corps of Engineers, Washington Department of Transportation, Clark County, Clark County Sheriff's Office, Cowlitz County, City of La Center, City of Vancouver, City of Ridgefield, Port of Ridgefield, City of Woodland, and City of Battle Ground as cooperating agencies, intends to file a Draft Environmental Impact Statement (DEIS) with the EPA for the proposed 151.87 acre fee-to-trust transfer, reservation proclamation, and casino-resort complex construction. This notice also announces two public hearings to receive comments on the DEIS.

DATES: Written comments on the DEIS must arrive by July 14, 2006. The public hearings will be held June 14 and 15, 2006, starting at 6 p.m. and continuing until the last public comment is received.

ADDRESSES: You may mail or hand carry written comments to Stanley Speaks, Director, Northwest Region, Bureau of Indian Affairs, 911 NE. 11th Avenue, Portland, Oregon 97232.

Both public hearings will be held at the Skyview High School, 1300 NW. 139th Street, Vancouver, Washington 98685. The BIA will be hosting these hearings.

The DEIS is available for public review at the following branches of the Ft. Vancouver Public Library: La Center Community Library, 1402 E. Lockwood Creek Road, La Center, Washington 98629; and Ridgefield Community Library, 210 North Main Avenue, Ridgefield, Washington 98642. General information for the Ft. Vancouver Public Library system can be obtained by calling (360) 695-1561. The DEIS is also available on the following Web sites: http://analyticalcorp.com/ and http://www.cowlitz.org/.

If you would like to obtain a copy of the DEIS, please write to Chuck James, Acting Regional Environmental Protection Specialist, at the address provided above for the Northwest Region, or call him at the number provided below.

FOR FURTHER INFORMATION CONTACT: Chuck James, (530) 231-6229.

SUPPLEMENTARY INFORMATION: The Tribe has requested that the BIA take 151.87 acres of land into trust on behalf of the Tribe, for which the BIA would issue a reservation proclamation and on which the Tribe proposes to develop a casino-resort complex. The proposed project site encompasses eight contiguous tax lots in Clark County, Washington, near the cities of La Center and Ridgefield. The project site is located along NW. 319th Street between NW. 41st Avenue and NW. 31st Avenue, and adjacent to Interstate 5 (I-5) at the NW. 319th Street Interchange (the La Center Interchange).

The proposed casino-resort complex would include an RV park, wastewater treatment plant, Tribal offices, a cultural center and Tribal elder housing. Regional access to the project site would continue to be via I-5. The NW. 319th Street would provide primary access to local housing to the west of the site and to the casino-resort complex. It would, however, be re-routed to a more southerly location within the proposed project site to allow development of the casino and hotel facilities north of NW. 319th Street, without encroachment into wetlands and wetland buffer areas.

A range of project alternatives is considered in the DEIS, including: (1) Proposed casino-resort complex; (2) proposed casino-resort complex without re-routing NW 319th Street; (3) reduced intensity; (4) business park; (5) casino-resort complex at the Ridgefield Interchange Site; and (6) no action. Environmental issues to be addressed in the DEIS include geology and soils, water resources, air quality, biological resources, cultural and paleontological resources, socioeconomic conditions (including environmental justice), transportation and circulation, land use, public services, noise, hazardous materials, aesthetics, cumulative effects, indirect effects and mitigation.

The BIA held a public scoping meeting on the project on December 1, 2004 in Vancouver, Washington.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.

Dated: March 27, 2006.
Michael D. Olsen,
Acting Principal Deputy Assistant Secretary—Indian Affairs.

[FR Doc. E6-5383 Filed 4-11-06; 8:45 am]

BILLING CODE 4310-W7-P